OFFICE OF THE UNITED STATES TRADE REPRESENTATIVE

Submission for OMB Review; Comment Request

AGENCY: Office of the United States Trade Representative.

Titles: Questionnaire for Exclusion Requesters; Questionnaire for Objectors.

Form Numbers: None.

Agency Approval Number: 0350-0011, 0350-0012.

Type of Request: Revision of currently approved collections.

Burden: Questionnaire for Exclusion Requesters: 4100 hours; Questionnaire for Objectors: 3387 hours.

Number of Respondents: Questionnaire for Exclusion Requesters: 250; Questionnaire for Objectors: 17.

Avg. Hours Per Response: The time needed to respond is estimated to range from 1.5 to 15 hours. Many of the respondents will be updating information with regard to an exclusion that they have previously requested, or to which they have previously objected. We estimate that their time for responding will average between 1.5 and 2 hours. Other respondents will be submitting a new request for exclusion or objecting to a new request for exclusion. We estimate that their time for responding will average between 11 and 15 hours. The time estimates include time to gather the necessary information, create the documents, and submit the completed questionnaires.

Needs and Uses: Section 203(a) of the Trade Act of 1974, as amended (19 U.S.C. 2253(a)) authorizes the President, in certain circumstances, to take appropriate and feasible action which the President determines will facilitate efforts by domestic industries to make a positive adjustment to import competition and provide greater economic and social benefits than costs. On March 5, 2002, acting pursuant to Section 203(a), the President issued Proclamation 7529, establishing temporary safeguards on imports of steel products. 67 Fed. Reg. 10553 (March 7, 2002). Proclamation 7529 states that in March of each year in which any of these safeguard measures remain in effect, the United States Trade Representative (“USTR”) is authorized, upon publication in the Federal Register of a notice of his finding that a particular product should be excluded from these safeguard measures, to modify the HTS provisions created by the Annex to Proclamation 7529 accordingly. These information requests will identify products for which exclusion is sought, identify objections to the exclusion of such products, and provide the information needed for the USTR to make a finding as to whether a product should be excluded.

Affected Public: Businesses or other for-profit.

Frequency: Annually and as otherwise needed.

Respondent's Obligation: Required to obtain benefits.

OMB Desk Office: David Rostker, (202) 395-3897.

Copies of the proposed requester's or objector's questionnaires can be obtained by submitting a request to the USTR Office of Industry, 600 E Street, NW., Washington, DC 20508, Attn. Questionnaire Copy, fax 202-395-9674, telephone 202-395-5656. Please indicate clearly the questionnaire sought (requester's questionnaire or objector's questionnaire).

Written comments and recommendations for the proposed collection should be sent on or before October 3, 2002, to David Rostker, OMB Desk Officer, Room 10202, New Executive Office Building, Washington, DC 20503.

Dated: August 28, 2002.
James E. Mendenhall,
Deputy General Counsel.

[FR Doc. 02-22386 Filed 8-30-02; 8:45 am]

BILLING CODE 3190-01-P